DEPARTMENT OF TRANSPORTATION

Federal Aviation Administration

14 CFR Part 39

[Docket No. 2000-NM-398-AD]

RIN 2120-AA64

Airworthiness Directives; Bombardier Model CL-215-1A10 and CL-215-6B11 Series Airplanes

AGENCY: Federal Aviation Administration, DOT.

ACTION: Notice of proposed rulemaking (NPRM).

SUMMARY: This document proposes the supersedure of an existing airworthiness directive (AD), applicable to certain Bombardier Model CL-215-1A10 and CL-215-6B11 series airplanes, that currently requires repetitive inspections to detect cracking on certain wing-to-fuselage frame angles; and repair, if necessary. This action would decrease the compliance time for the initial inspection to detect cracking on certain wing-to-fuselage frame angles and would decrease the interval between repetitive inspections. This proposal is prompted by issuance of mandatory continuing airworthiness information by a foreign civil airworthiness authority. The actions specified by the proposed AD are intended to detect and correct cracking in the wing-to-fuselage frame angles, which could result in reduced structural integrity of the airframe.

DATES: Comments must be received by March 11, 2002.

ADDRESSES: Submit comments in triplicate to the Federal Aviation Administration (FAA), Transport Airplane Directorate, ANM-114, Attention: Rules Docket No. 2000-NM-398-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-398-AD” in the subject line and need not be submitted in triplicate. Comments sent via the Internet as attached electronic files must be formatted in Microsoft Word 97 for Windows or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, Engine and Propeller Directorate, New York Aircraft Certification Office, 10 Fifth Street, Third Floor, Valley Stream, New York 11581.

FOR FURTHER INFORMATION CONTACT: Serge Napoleon, Aerospace Engineer, Airframe and Propulsion Branch, ANE-171, FAA, Engine and Propeller Directorate, New York Aircraft Certification Office, 10 Fifth Street, Third Floor, Valley Stream, New York 11581; telephone (516) 256-7512; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-398-AD.” The postcard will be date stamped and returned to the commenter.

Availability of NPRMs

Any person may obtain a copy of this NPRM by submitting a request to the FAA, Transport Airplane Directorate, ANM-114, Attention: Rules Docket No. 2000-NM-398-AD, 1601 Lind Avenue, SW., Renton, Washington 98055-4056.

Discussion

On July 23, 1999, the FAA issued AD 99-16-04, amendment 39-11239 (64 FR 41775, August 2, 1999), applicable to certain Bombardier Model CL-215-1A10 and CL-215-6B11 series airplanes, to require repetitive inspections to detect cracking on certain wing-to-fuselage frame angles, and repair, if necessary. The requirements of that AD are intended to detect and correct cracking in the wing-to-fuselage frame angles, which could result in reduced structural integrity of the airframe.

Actions Since Issuance of Previous Rule

Since the issuance of that AD, Transport Canada Civil Aviation (TCCA), the Canadian civil airworthiness authority, has informed the FAA that cracks on the wing-to-fuselage frame angles have been found in three in-service CL-215T series airplanes. The cracking, which is due to structural fatigue, has occurred much sooner than had been anticipated. The wing-to-fuselage frame angles were found to be affected by the number of times the pilot scoops down to get water to drop onto a fire, referred to in this AD as the number of “total water drops.” Cracking of the wing-to-fuselage frame angles, if not corrected, could result in reduced structural integrity of the airframe.

Explanation of Relevant Service Information

Bombardier has issued Alert Service Bulletin 215-A476, Revision 4, dated August 18, 2000, which describes procedures for an eddy current inspection of fasteners on the front and rear spar frame angles and for reporting results of the inspection, negative or positive, to Bombardier. Accomplishment of the actions specified in the service bulletin is intended to adequately address the identified unsafe condition. The TCCA classified this service bulletin as mandatory and issued Canadian airworthiness directive CF-1997-07R2, dated August 17, 2000, in order to assure the continued airworthiness of these airplanes in Canada.

FAA's Conclusions

These airplane models are manufactured in Canada and are type certificated for operation in the United States under the provisions of section 21.29 of the Federal Aviation Regulations (14 CFR 21.29) and the applicable bilateral airworthiness agreement. Pursuant to this bilateral airworthiness agreement, the TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would supersede AD 99-16-04 to require an additional trigger for the initial (and the repetitive) inspections for cracks of the wing-to-fuselage frame angles. That trigger—the total number of water drops—has been added, because water drops have been found to be associated with cracking of the wing-to-fuselage frame angles. Adding this trigger is likely to decrease the time before an initial inspection is required and to shorten the interval between repetitive inspections. The actions would be required to be accomplished in accordance with the service bulletin described previously.

Cost Impact

There is one airplane of U.S. registry that would be affected by this proposed AD.

The inspections that are currently required by AD 99-16-04 take approximately 2 work hours per airplane to accomplish, at an average labor rate of $60 per work hour. Based on these figures, the cost impact of the currently required actions on U.S. operators is estimated to be $120 per airplane, per inspection cycle.

The inspections that are proposed in this AD action would take approximately 3 work hours per airplane to accomplish, at an average labor rate of $60 per work hour. Based on these figures, the cost impact of the proposed requirements of this AD on U.S. operators is estimated to be $180 per airplane, per inspection cycle.

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11239 (64 FR 41775, August 2, 1999), and by adding a new airworthiness directive (AD), to read as follows:

Bombardier Inc. (Formerly Canadair):

Docket 2000-NM-398-AD. Supersedes AD 99-16-04, Amendment 39-11239.

Applicability: Model CL-215-1A10 and CL-215-6B11 series airplanes, serial numbers 1001 through 1125 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To detect and correct cracking in the wing-to-fuselage frame angles, which could result in reduced structural integrity of the airframe, accomplish the following:

Restatement of Requirements of AD 99-16-04

(a) Perform an eddy current inspection to detect cracking of the fuselage frame angles at the wing front and rear spar attachment to the fuselage at the later of the times specified in paragraphs (a)(1) and (a)(2) of this AD, in accordance with Bombardier Alert Service Bulletin ASB 215-A476, Revision 3, dated August 21, 1998. Thereafter, repeat the inspection at intervals not to exceed 415 flight hours.

(1) Prior to the accumulation of 2,300 total flight hours.

(2) Within 150 flight hours or 4 months after September 7, 1999 (the effective date of AD 99-16-04), whichever occurs first.

Note 2: Accomplishment of the eddy current inspections of the lower surfaces of the frame angles conducted in accordance with Bombardier Alert Service Bulletin ASB 215-A476, Revision 1, dated January 14, 1997, or ASB 215-A476, Revision 2, dated June 15, 1998, prior to the effective date of this AD, is considered to be acceptable for compliance with the requirements of paragraph (a) of this AD for that area only.

(b) If the results of any inspection required by paragraph (a) of this AD are outside the limits specified in paragraph 2.C.(7) of Bombardier Alert Service Bulletin ASB 215-A476, Revision 3, dated August 21, 1998, or ASB 215-A476, Revision 4, dated August 18, 2000: Prior to further flight, repair in accordance with a method approved by the Manager, New York Aircraft Certification Office (ACO), FAA.

New Actions Required by This AD

Initial Inspection

(c) Unless paragraph (a) of this AD has been accomplished, perform an eddy current inspection to detect cracking of the fuselage frame angles at the wing front and rear spar attachment to the fuselage at the later of the times specified in paragraphs (c)(1) and (c)(2) of this AD, in accordance with Bombardier Alert Service Bulletin 215-A476, Revision 4, dated August 18, 2000.

(1) Prior to the accumulation of 2,300 total flight hours or 7,500 total water drops, whichever occurs first.

(2) Within 60 days after the effective date of this AD.

Repetitive Inspection

(d) Perform an eddy current inspection to detect cracking of the fuselage frame angles at the wing front and rear spar attachment to the fuselage, in accordance with Bombardier Alert Service Bulletin 215-A476, Revision 4, dated August 18, 2000, at intervals not to exceed 415 flight hours or 1,500 water drops, whichever occurs first.

Corrective Action

(e) If the results of any inspection required by paragraph (c) or (d) of this AD are outside the limits specified in paragraph 2.C.(7) of Bombardier Alert Service Bulletin ASB 215-A476, Revision 4, dated August 18, 2000: Prior to further flight, repair in accordance with a method approved by the Manager, New York Aircraft Certification Office (ACO), FAA.

Reporting

(f) Within 10 days after performing any inspection required by paragraph (a), (c), or (d) of this AD: Report the findings, positive or negative, to Bombardier Inc., Amphibious Aircraft Division, Customer Support, Department 645, Attention: Manager of Technical Support, Fax Number (514) 855-7602. Information collection requirements contained in this AD have been approved by the Office of Management and Budget (OMB) under the provisions of the Paperwork Reduction Act of 1980 (44 U.S.C. 3501 et seq.) and have been assigned OMB Control Number 2120-0056.

Alternative Methods of Compliance

(g) An alternative method of compliance or adjustment of the compliance time that provides an acceptable level of safety may be used if approved by the Manager, New York ACO. Operators shall submit their requests through an appropriate FAA Principal Maintenance Inspector, who may add comments and then send it to the Manager, New York ACO.

Note 3: Information concerning the existence of approved alternative methods of compliance with this AD, if any, may be obtained from the New York ACO.

Special Flight Permits

(h) Special flight permits may be issued in accordance with sections 21.197 and 21.199 of the Federal Aviation Regulations (14 CFR 21.197 and 21.199) to operate the airplane to a location where the requirements of this AD can be accomplished.

Note 4: The subject of this AD is addressed in Canadian airworthiness directive CF-1997-07R2, dated August 17, 2000.

Issued in Renton, Washington, on February 1, 2002.
Ali Bahrami,
Acting Manager, Transport Airplane Directorate, Aircraft Certification Service.

[FR Doc. 02-3065 Filed 2-7-02; 8:45 am]

BILLING CODE 4910-13-U